DEPARTMENT OF THE INTERIOR

Bureau of Indian Affairs

Irrigation Rate Adjustment, Colorado River Irrigation Project

AGENCY: Bureau of Indian Affairs, Interior.

ACTION: Notice of Irrigation Operation and Maintenance Rate Adjustment.

SUMMARY: The Bureau of Indian Affairs (BIA) adjusted the excess water rates assessed to customers of the Colorado River Irrigation Project for the 2001 irrigation season. This rate will remain in effect for subsequent irrigation seasons or until we provide notice of a separate rate adjustment.

EFFECTIVE DATE: The new rates were effective July 1, 2001.

FOR FURTHER INFORMATION CONTACT: Jeff Hinkins, Bureau of Indian Affairs, Colorado River Agency, Rt. 1, Box 9-C, Parker, AZ 85334; (928) 669-7111.

SUPPLEMENTARY INFORMATION: A notice of Proposed Rate Adjustment was published in the Federal Register on September 25, 2001 at 66 FR 49037. The public and interested parties were provided an opportunity to submit written comments during the 60-day period subsequent to September 25, 2001. No comments were received.

Where Can Information on the Regulatory and Legal Citations in This Notice Be Obtained?

You can contact the Colorado River Irrigation Project office at the location stated in FOR FURTHER INFORMATION CONTACT section or you can use the Internet site for the Government Printing Office at http://www.gpo.gov.

What Is the Purpose of This Notice?

This notice is to notify you that we adjusted the irrigation assessment rates for one of our irrigation projects. We are publishing this notice in accordance with the BIA's regulations governing its operation and maintenance of irrigation projects, specifically §§ 171.1(e) and 171.1(f) of part 171, subchapter H, chapter I, of title 25 of the Code of Federal Regulations. These sections provide for the fixing and announcing of the rates for annual operation and maintenance assessments and related information for BIA irrigation projects.

What Authorizes Us to Issue This Notice?

Our authority to issue this notice is vested in the Secretary of the Interior by 5 U.S.C. 301; the Act of August 14, 1914 (38 Stat. 583; 25 U.S.C. 385). The Secretary has in turn delegated this authority to the Assistant Secretary—Indian Affairs in accordance with part 209 of the Department of the Interior's Departmental Manual, Chapter 8.1A, and by memorandum dated January 25, 1994, from the Chief of Staff, Department of the Interior, to Assistant Secretaries and Heads of Bureaus and Offices.

When Does This Schedule Apply To Me?

The schedule applies to you if you irrigated lands within the Colorado River Irrigation Project for the 2001 irrigation season.

What Was the Irrigation Rate for the 2001 Irrigation Season?

The following table shows how we billed you:

Water delivered per acre | Rate for 2001 irrigation season
Up to 5.0 acre-feet | $37.00
5.0 to 5.5 acre-feet | 7.40
Above 5.5 acre-feet | 17.00

Consultation and Coordination With Tribal Governments (Executive Order 13175)

The rate adjustment was developed in consultation between the irrigators, the BIA and the Tribal Irrigation Committee (Committee). The Committee was established by the Colorado River Indian Tribes (Tribes) and maintains a membership appointed by the Tribal Council. During the March 2001 Committee meeting, a budget subcommittee was appointed and tasked to specifically review the excess water rate and make recommendations to the Committee for proposed adjustments. The subcommittee developed a method and rate which would maintain an excess water rate consistent with the previously developed budget. The proposed rate was reviewed and approved by the Committee during their May 2001 meeting. On June 19, 2001, a meeting was held between the Tribes and the BIA. During the meeting the Tribes were informed of the proposed rate adjustment and the impacts associated with this adjustment. The Tribes agreed to the proposed adjustment to the excess water rate and a verifying letter was sent to the Tribes on July 3, 2001.

Throughout the process of reviewing the excess water rate the BIA has relied upon input and consultation with the Tribes through their Irrigation Committee and Water Resource Program activity, to develop an equitable rate for farmers, maximize water conservation and maintain sufficient funds for operation and maintenance of the project.

Actions Concerning Regulations That Significantly Affect Energy Supply, Distribution, or Use (Executive Order 13211)

This is a notice for a rate adjustment at a BIA owned and operated irrigation project. This rate adjustment had no significant adverse effects on energy supply, distribution, or use (including a shortfall in supply, price increases, and increase use of foreign supplies) when the proposed rate adjustment was implemented.

Regulatory Planning and Review (Executive Order 12866)

This rate adjustment was not a significant regulatory action and did not need to be reviewed by the Office of Management and Budget under Executive Order 12866.

Regulatory Flexibility Act

This rate making was not a rule for the purposes of the Regulatory Flexibility Act because it was “a rule of particular applicability relating to rates.” 5 U.S.C. 601(2).

Unfunded Mandates Reform Act of 1995

This rate adjustment imposed no unfunded mandates on any governmental or private entity and was in compliance with the provisions of the Unfunded Mandates Reform Act of 1995.

Takings (Executive Order 12630)

The Department determined that this rate adjustment did not have significant “takings” implications. The rate adjustment did not deprive the public, state, or local governments of rights or property.

Federalism (Executive Order 13132)

The Department determined that this rate adjustment did not have significant Federalism effects because it pertained solely to Federal-tribal relations and did not interfere with the roles, rights, and responsibilities of states.

Civil Justice Reform (Executive Order 12988)

In accordance with Executive Order 12988, the Office of the Solicitor determined that this rule did not unduly burden the judicial system and met the requirements of sections 3(a) and 3(b)(2) of the Order.

Paperwork Reduction Act of 1995

This rate adjustment did not affect the collection of information which had been approved by the Office of Information and Regulatory Affairs, Office of Management and Budget, under the Paperwork Reduction Act of 1995. The OMB Control Number is 1076-0141 and expires November 30, 2002.

National Environmental Policy Act

The Department determined that this rate adjustment did not constitute a major Federal action significantly affecting the quality of the human environment and that no detailed statement was required under the National Environmental Policy Act of 1969.

Dated: March 5, 2002.
Neal A. McCaleb,
Assistant Secretary—Indian Affairs.

[FR Doc. 02-6446 Filed 3-15-02; 8:45 am]

BILLING CODE 4310-W7-P